FEDERAL COMMUNICATIONS COMMISSION

47 CFR Part 73

[DA 04-30; MB Docket No. 03-164; RM-10737]

Radio Broadcasting Services; Marmet and Montgomery, WV

AGENCY: Federal Communications Commission.

ACTION: Final rule.

SUMMARY: In response to a Notice of Proposed Rule Making, 68 FR 43704 (July 24, 2003), this document reallots Channel 227A from Montgomery, West Virginia, to Marmet, West Virginia, and provides Marmet with its first local aural transmission service. The coordinates for Channel 227A at Marmet are 38°13′09″ North Latitude and 81°25′05″ West Longitude, with a site restriction of 13.4 kilometers (8.3 miles) east of Marmet, West Virginia.

DATES: Effective March 1, 2004.

FOR FURTHER INFORMATION CONTACT: R. Barthen Gorman, Media Bureau, (202) 418-2180.

SUPPLEMENTARY INFORMATION: This is a synopsis of the Commission's Report and Order, MB Docket No. 03-164, adopted January 14, 2004, and released January 16, 2004. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under West Virginia, is amended by adding Marmet, Channel 227A, and removing Montgomery, Channel 227A.

Federal Communications Commission.
John A. Karousos,
Assistant Chief, Audio Division, Media Bureau.

[FR Doc. 04-2840 Filed 2-9-04; 8:45 am]

BILLING CODE 6712-01-P